DEPARTMENT OF LABOR

Office of Workers' Compensation Programs

Division of Coal Mine Workers' Compensation; Proposed Extension; Comment Request

ACTION: Notice.

SUMMARY: The Department of Labor (DOL) is soliciting comments concerning a proposed extension for the authority to conduct the information collection request (ICR) titled, “Coal Mine Operator Response to Schedule for the Submission of Additional Evidence and Operator Response to Notice of Claim.” This comment request is part of continuing Departmental efforts to reduce paperwork and respondent burden in accordance with the Paperwork Reduction Act of 1995 (PRA).

DATES: Written comments must be submitted to the office listed in the address section below on or before May 11, 2020.

ADDRESSES: A copy of this ICR with applicable supporting documentation, including a description of the likely respondents, proposed frequency of response, and estimated total burden, may be obtained free by contacting Anjanette Suggs by telephone at 202-354-9660 or by email at suggs.anjanette@dol.gov.

Submit written comments about this ICR by mail or courier to the U.S. Department of Labor, Office of Workers' Compensation Program, Division of Coal Mine Workers' Compensation, Room S3323, 200 Constitution Avenue NW, Washington, DC 20210; by email: suggs.anjanette@dol.gov.

FOR FURTHER INFORMATION CONTACT: Anjanette Suggs by telephone at 202-354-9660 or by email at suggs.anjanette@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

The Office of Workers' Compensation Programs' (OWCP) Division of Coal Mine Workers' Compensation (DCMWC) administers the Black Lung Benefits Act (30 U.S.C. 901 et seq.), which provides benefits to coal miners totally disabled due to pneumoconiosis and certain surviving dependents. Benefits are paid by a coal mine operator who employed the miner (or its insurance carrier) or the Black Lung Disability Trust Fund if no responsible coal mine operator can be identified.

OWCP is seeking comments on the extension of information collections titled Coal Mine Operator Response to Schedule for Submission of Additional Evidence (Form CM-2970) and Operator Response to Notice of Claim (Form CM-2970a). The District Director uses the information collected on form CM-2970 to determine whether the named coal mine operator agrees with the District Director's (1) designation of the operator as liable for any benefits payable, and (2) determination regarding the claimant's eligibility for benefits. The District Director uses the information collected on the CM-2970a to determine whether a coal mine operator who employed the miner may be designated as the liable operator responsible for paying any benefits due on a claim. The information collected on both forms is within the operator's control (e.g., information about the operator's business, employment of the miner, and financial capacity to pay benefits).

This information collection is subject to the PRA. A Federal agency generally cannot conduct or sponsor a collection of information, and the public is generally not required to respond to an information collection, unless the OMB under the PRA approves it and the collection displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Written comments will receive consideration, and summarized and included in the request for OMB approval of the final ICR. To help ensure appropriate consideration, comments should mention 1240-0033.

Submitted comments will also be a matter of public record for this ICR and may be posted on the internet, without redaction. The DOL encourages commenters not to include personally identifiable information, confidential business data, or other sensitive statements/information in any comments.

The DOL is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected; and

• Minimize the burden of the collection of information on those who are to respond, including through the use of appropriate automated, electronic, mechanical, or other technological collection techniques or other forms of information technology, e.g., permitting electronic submission of responses.

Agency: DOL-OWCP-DCMWC.

Type of Review: Extension.

Title of Collection: Coal Mine Operator Response to Schedule for the Submission of Additional Evidence and Operator Response to Notice of Claim.

Form: CM-2970 and CM-2970a.

OMB Control Number: 1240-0033.

Affected Public: Private Sector—businesses or other for-profits.

Estimated Number of Respondents: 4,900.

Frequency: As needed.

Total Estimated Annual Responses: 9,800.

Estimated Average Time per Response: 10 minutes—CM-2970 and 15 minutes—CM-2970a.

Estimated Total Annual Burden Hours: 2,042 hours.

Total Estimated Annual Other Cost Burden: $35,102.00.

Authority: 44 U.S.C. 3506(c)(2)(A).

Dated: March 6, 2020.
Anjanette Suggs,
Agency Clearance Officer.

[FR Doc. 2020-05088 Filed 3-11-20; 8:45 am]

BILLING CODE 4510-CK-P